DEPARTMENT OF DEFENSE

Office of the Secretary

[Transmittal No. 23-58]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-58, Policy Justification, and Sensitivity of Technology.

Dated: November 6, 2024.
Stephanie J. Bost,
Alternate OSD Federal Register Liaison Officer, Department of Defense.

BILLING CODE 6001-FR-P

BILLING CODE 6001-FR-C

Transmittal No. 23-58

Notice of Proposed Issuance of Letter of Offer Pursuant to Section 36(b)(1) of the Arms Export Control Act, as amended

(i) Prospective Purchaser: Government of Spain

(ii) Total Estimated Value:

Major Defense Equipment * | $1.7 billion
Other | $1.1 billion
Total | $2.8 billion

(iii) Description and Quantity or Quantities of Articles or Services under Consideration for Purchase: The Government of Spain has requested to buy four (4) PATRIOT Configuration-3+ Modernized Fire Units consisting of:

Major Defense Equipment (MDE):

Fifty-one (51) PATRIOT Advanced Capability (PAC) 3 Missile Segment

Enhanced (MSE) Missiles (includes one (1) Fly-to-Buy Missile)

Twenty-four (24) PATRIOT M903 Launch Stations

Four (4) AN/MPQ-65 Radar Sets

Four (4) AN/MSQ-132 Engagement Control Stations

Two (2) Information Coordination Central (ICC)

Eight (8) Antenna Mast Groups

Four (4) Electrical Power Plants

Four (4) Energy Power Units

Non-MDE:

Also included is communications equipment; tools and test equipment; range and test programs; support equipment and services comprising Skids kits, telemetry kits, generators, publications, and technical documentation; training equipment; spare and repair parts; repair and return; personnel training; New Equipment Training (NET); Technical Assistance Field Team (TAFT) support; Flight Test Support and Targets; United States (U.S.) Government and contractor technical assistance, engineering, and logistics support services; Systems Integration and Checkout (SICO) and Battalion Demonstration; field office support; and other related elements of logistics and program support.

(iv) Military Department: Army (SP-B-WBS)

(v) Prior Related Cases, if any: SP-B-WBM

(vi) Sales Commission, Fee, etc., Paid, Offered, or Agreed to be Paid: None

(vii) Sensitivity of Technology Contained in the Defense Article or Defense Services Proposed to be Sold: See Attached Annex

(viii) Date Report Delivered to Congress: October 4, 2023

* As defined in Section 47(6) of the Arms Export Control Act.

POLICY JUSTIFICATION

Spain—PATRIOT Configuration-3+ Modernized Fire Units

The Government of Spain has requested to buy four (4) PATRIOT Configuration-3+ Modernized Fire Units consisting of: fifty-one (51) PATRIOT Advanced Capability (PAC) 3 Missile Segment Enhanced (MSE) missiles (includes one (1) Fly-to-Buy missile); twenty-four (24) PATRIOT M903 launch stations; four (4) AN/MPQ-65 radar sets; four (4) AN/MSQ-132 Engagement Control Stations; two (2) Information Coordination Central (ICC); eight (8) Antenna Mast Groups; four (4) Electrical Power Plants; and four (4) Energy Power Units. Also included is communications equipment; tools and test equipment; range and test programs; support equipment and services comprising Skids kits, telemetry kits, generators, publications, and technical documentation; training equipment; spare and repair parts; Repair and Return; personnel training; New Equipment Training (NET); Technical Assistance Field Team (TAFT) support; Flight Test Support and Targets; U.S. Government and contractor technical assistance, engineering, and logistics support services; Systems Integration and Checkout (SICO) and Battalion Demonstration; field office support; and other related elements of logistics and program support. The estimated total cost is $2.8 billion.

This proposed sale will support the foreign policy and national security of the U.S. by improving the security of a NATO ally which is an important force for political stability and economic progress in Europe.

The proposed sale of the PATRIOT missile system will improve Spain's missile defense capability, increase the defensive capabilities of its military, and support its goal of improving national and territorial defense and interoperability with U.S. and NATO forces. Spain will use the PATRIOT to defend its territorial integrity and for regional stability. Spain will have no difficulty absorbing this equipment into its armed forces.

The proposed sale of this equipment and support will not alter the basic military balance in the region.

The prime contractors will be Raytheon Corporation, Tewksbury, MA, and Lockheed Martin, Dallas, TX. There are no known offset agreements in connection with this potential sale.

Implementation of this proposed sale will require U.S. Government and contractor representatives to travel to Spain for an extended period for system checkout, training, and technical and logistics support.

There will be no adverse impact on U.S. defense readiness as a result of this proposed sale.

Transmittal No. 23-58

Notice of Proposed Issuance of Letter of Offer Pursuant to Section 36(b)(1) of the Arms Export Control Act

Annex

Item No. vii

(vii) Sensitivity of Technology:

1. The PATRIOT Advanced Capability (PAC) 3 Missile Segment Enhanced missile is a small, highly agile, kinetic kill interceptor for defense against tactical ballistic missiles, cruise missiles, and air-breathing threats. The MSE variant of the PAC-3 missile represents the next generation in hit-to-kill interceptors and provides expanded battlespace against evolving threats. The PAC-3 MSE improves upon the original PAC-3 capability with a higher performance solid rocket motor, modified lethality enhancer, more responsive control surfaces, upgraded guidance software, and insensitive munitions improvements.

2. M903 launcher stations are capable of launching the entire family of PATRIOT missiles. All new U.S. launchers are M903 configuration.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the Government of Spain can provide substantially the same degree of protection for the sensitive technology being released as the U.S. Government. This sale is necessary in furtherance of the U.S. foreign policy and national security objectives outlined in the Policy Justification.

6. All defense articles and services listed in this transmittal have been authorized for release and export to Spain.

[FR Doc. 2024-26157 Filed 11-8-24; 8:45 am]

BILLING CODE 6001-FR-P